DEPARTMENT OF HEALTH AND HUMAN SERVICES

National Institutes of Health

National Institute of Allergy and Infectious Diseases; Notice of Closed Meetings

Pursuant to section 10(d) of the Federal Advisory Committee Act, as amended (5 U.S.C. Appendix 2), notice is hereby given of the following meetings.

The meetings will be closed to the public in accordance with the provisions set forth in section 552b(c)(4) and 552b(c)(6), title 5 U.S.C., as amended. The grant applications and the discussions could disclose confidential trade secrets or commercial property such as patentable material, and personal information concerning individuals associated with the grant application, the disclosure of which would constitute a clearly unwarranted invasion of personal privacy.

Name of Committee: National Institute of Allergy and Infectious Diseases Special Emphasis Panel, Challenge Grants: Biodefense Product Development.

Date: April 27, 2005.

Time: 8 a.m. to 6:30 p.m.

Agenda: To review and evaluate grant applications.

Place: Double Tree Rockville, 1750 Rockville Pike, Rockville, MD 20852.

Contact Person: Mary J. Homer, PhD, Scientific Review Administrator, Scientific Review program, Division of Extramural Activities, NIAID/NIH/DHHS, Room 3255, 6700-B Rockledge Drive, MSC 7616, Bethesda, MD 20892. (301) 496-7042. mjhomer@niaid.nih.gov.

Name of Committee: National Institute of Allergy and Infectious Diseases Special Emphasis Panel, Challenge Grants: Biodefense Product Development RFA-AI-04-029.

Date: April 29, 2005.

Time: 8:30 a.m. to 6:30 p.m.

Agenda: To review and evaluate grant applications.

Place: Double Tree Rockville, 1750 Rockville Pike, Rockville, MD 20852.

Contact Person: Tracy A. Shahan, PhD, Scientific Review Administrator, Scientific Review Program, Division of Extramural Activities, NIAID/NIH/DHHS, Room 3121, 6700-B Rockledge Drive, MSC 7616, Bethesda, MD 20892-7616. (301) 451-2606. tshahan@niaid. nih.gov.

(Catalogue of Federal Domestic Assistance Program Nos. 93.855, Allergy, Immunology, and Transplantation Research; 93.856 Microbiology and Infectious Diseases Research, National Institutes of Health, HHS)

Dated: April 4, 2005.
LaVerne Y. Stringfield,
Director, Office of Federal Advisory Committee Policy.

[FR Doc. 05-7235 Filed 4-8-05; 8:45 am]

BILLING CODE 4140-01-M